DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety regulations. The individual petition is described below including, the party seeking relief, the regulatory provisions involved, the nature of the relief being requested, and the petitioner's arguments in favor of relief.

Norfolk Southern Corporation

[Waiver Petition Docket Number FRA-2000-8045]

Norfolk Southern Corporation (NS) seeks to amend temporary waiver PB-98-1 by extending the expiration date to December 31, 2001.

Part 232.21(a) requires that “An emergency brake application command from the front unit of the device shall activate the emergency air valve at the rear of the train within one second.” According to NS, their front unit sends an emergency brake command in 1.675 seconds, of which a significant portion of this time is involved in coding the unique signal that provides a security barrier against an attempted malicious emergency command from an outside source, or an accidental transmission from another front unit that may have an erroneous rear number inputted. The NS system is designed to code a unique message between the individual devices. These messages are separate from the rear unit number and are coded and initialized only during a five minute window at the initial terminal setup and testing of the system. NS believes this function provides a higher level of security than the two-way systems currently used by other Class I railroads.

Part 232.21(f) requires “the availability of the front-to-rear communications link shall be checked automatically at least every ten minutes.” The system used by NS does not have front-to-rear communications checked automatically every ten minutes. NS claims their system communications failure warning is linked to the rear-to-front portion of the messaging. If five minutes elapse, since a good message was received by the front unit, a “STANDBY” message is displayed on the front unit. This message informs the engineer that communication is lost.

Part 232.23(d) permits NS to use these devices because “Each two-way end-of-train device purchased by any person prior to promulgation of these regulations shall be deemed to meet the design and performance requirements contained in § 232.21.”

It is NS's desire to redesign all of their devices to comply with § 232.21. In order to facilitate a smooth transition from the existing NS mode to the mode that is currently being used by the rest of the Class I railroads, NS requested and on June 8, 1998, was granted a temporary waiver of § 232.21(a) and (f) for the procurement and operation of a dual mode device for three years. The dual mode device is a dual frequency, two-way system which will operate in both the NS and the current compliant mode. When these devices are operated in the complaint mode, they will comply with current regulations. However, when they are operated in the NS mode, they will be compatible with existing NS devices as described above.

NS would like to modify existing waiver PB-98-1 by extending the expiration date to December 31, 2001, at which time they believe the entire NS locomotive fleet will be compliant with the current design and operating standards.

Interested parties are invited to participate in these proceedings by submitting written views, data, or comments. FRA does not anticipate scheduling a public hearing in connection with these proceedings since the facts do not appear to warrant a hearing. If any interested party desires an opportunity for oral comment, they should notify FRA in writing, before the end of the comment period and specify the basis for their request.

All communications concerning these proceedings should identify the appropriate docket number (e.g., Waiver Petition Docket Number FRA-2000-8045) and must be submitted to the Docket Management Facility, Room PL-401, (Plaza level) 400 Seventh Street, SW, Washington, D.C. 20590-0001. Communications received within 45 days of the date of this notice will be considered by FRA before final action is taken. Comments received after that date will be considered as far as practicable. All written communications concerning these proceedings are available for examination during regular business hours (9:00 a.m.-5:00 p.m.) at the above facility. All documents in the public docket are also available for inspection and copying on the Internet at the docket facility's web site at http://dms.dot.gov.

Issued in Washington, DC on November 3, 2000.
Grady C. Cothen, Jr.,
Deputy Associate Administrator for Safety Standards and Program Development.

[FR Doc. 00-28730 Filed 11-8-00; 8:45 am]

BILLING CODE 4910-06-P